DEPARTMENT OF HEALTH AND HUMAN SERVICES

Centers for Disease Control and Prevention

[30DAY-41-03]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: Asian American Audiences Survey for the Evaluation of CDC's Youth Media Campaign—New—National Center for Chronic Disease Prevention and Health Promotion (NCCDPHP), Centers for Disease Control and Prevention (CDC).

In FY 2001, Congress established the Youth Media Campaign at the Centers for Disease Control and Prevention (CDC). Specifically, the House Appropriations Language said: The Committee believes that, if we are to have a positive impact on the future health of the American population, we must change the behaviors of our children and young adults by reaching them with important health messages. CDC, working in collaboration with the Health Resources and Services Administration (HRSA), the National Center for Child Health and Human Development (NICHD), and the Substance Abuse and Mental Health Services Administration (SAMHSA), is coordinating an effort to plan, implement, and evaluate a campaign designed to clearly communicate messages that will help kids develop habits that foster good health over a lifetime. The Campaign will be based on principles that have been shown to enhance success, including: Designing messages based on research; testing messages with the intended audiences; involving young people in all aspects of Campaign planning and implementation; enlisting the involvement and support of parents and other influencers; tracking the Campaign's effectiveness and revising Campaign messages and strategies as needed.

Shifts in the Asian American population are of importance to the campaign and CDC desires to obtain a measure of the attitudes, beliefs, and behaviors among Asian Americans who are exposed to the campaign versus those who are not exposed to the campaign. CDC is specifically interested in the first generation Asian American parents who speak an Asian language in their household and their children, ages 9-13. The Asian-focused marketing efforts have been targeted to four Asian subgroups: parents and children who speak Korean, Vietnamese, Chinese Cantonese, and Chinese Mandarin. CDC proposes to conduct a targeted survey with 600 parent/ween dyads in Los Angeles during the summer of 2003. Computer-assisted telephone interviewing (CATI) methodology will be used to conduct the telephone interviews. The total annual burden for this data collection is 322 hours.

Respondents | No. of respondents | No. of responses/respondent | Average burden/response (in hours)
Screening | 5,333 | 1 | 1/60
Parent Survey | 800 | 1 | 10/60
Child Survey | 600 | 1 | 10/60

Dated: April 22, 2003.
Thomas A. Bartenfeld,
Acting Associate Director for Policy, Planning and Evaluation, Centers for Disease Control and Prevention.

[FR Doc. 03-10336 Filed 4-25-03; 8:45 am]

BILLING CODE 4163-18-P